DEPARTMENT OF AGRICULTURE

Office of the Secretary

Notice of Request for an Extension of a Currently Approved Information Collection

AGENCY: Office of Partnerships and Public Engagement, USDA/1890 National Scholars Programs.

ACTION: Notice and request for comments.

SUMMARY: This notice announces the Office of Partnerships and Public Engagement intention to request an extension for a currently approved information collection for the United States Department of Agriculture (USDA)/1890 National Scholars Program.

DATES: Comments on this notice must be received by December 3, 2018 to be assured of consideration.

ADDRESSES: Office of Partnerships and Public Engagement invites interested persons to submit comments on this notice. Comments may be submitted by one of the following methods:

• Federal eRulemaking Portal: This website provides the ability to type short comments directly into the comment field on this web page or attach a file for lengthier comments. Go to http://www.regulations.gov. Follow the online instructions at that site for submitting comments.

• Mail, including CD-ROMs, etc.: Send to Michael Dukes, U.S. Department of Agriculture, Office of Partnerships and Public Engagement, 1400 Independence Avenue SW, Mailstop 0601, Room 520-A, Whitten Building, Washington, DC 20250-3700.

• Hand or courier-delivered submittals: 1400 Independence Avenue SW, Room 520-A, Whitten Building, Washington, DC 20250-3700.

Instructions: All items submitted by mail or electronic mail must include the Office of Partnerships and Public Engagement. Comments received in response to this notice will be made available to the public for inspection and posted without change, including any personal information, to http://www.regulations.gov.

For access to background documents or comments received, go to the Office of Partnerships and Public Engagement at 1400 Independence Avenue SW, Room 520-A, Whitten Building, Washington, DC 20250-3700, between 8:00 a.m. and 4:30 p.m., Monday through Friday.

FOR FURTHER INFORMATION CONTACT: Michael Dukes, USDA/1890 National Student Program Coordinator, U.S. Department of Agriculture, 1400 Independence Avenue SW, Washington, DC 20250; or call (202) 720-6350 or fax (202) 720-7704.

SUPPLEMENTARY INFORMATION: In accordance with the Paperwork Reduction Act of 1995 (44 U.S.C. Chapter 35), this notice announces the intention of the Office of Partnerships and Public Engagement to request an extension for a currently approved information collection for the USDA/1890 National Scholars Program.

Title: USDA/1890 National Student Program Coordinator.

OMB Number: 0503-0015.

Expiration Date of Approval: November 30, 2018.

Type of Request: Extension and revision of a currently approved information collection.

Abstract: The USDA/1890 National Scholars Program is a joint human capital initiative between the U.S. Department of Agriculture (USDA) and the 1890 Historically Black Land-Grant Universities. Through the 1890 National Program, USDA offers scholarships to high school and college students who are seeking a bachelor's degree in the fields of agriculture, food, science, or natural resource sciences and related disciplines at one of the established 1890 Land-Grant Universities. A completed application is required for graduating high school students, and college freshman and sophomores to be considered for the scholarship. The first section of the high school application requests the applicant to include biographical information (i.e. name, address, age, etc.); educational background information (i.e. grade point average, test scores, name of university(ies), interested in attending, and desired major); and extracurricular activities. The second section of the application is completed by the student's guidance counselor and requests information pertaining to the student's academic status, grade point average, and test scores. The last section of the application, which is to be completed by a teacher, provides information assessing the applicant's interests, habits, and potential. Two letters of recommendation must be submitted on behalf of the applicant. The letters may be from the Principal, Assistant Principal, Career Counselor, Guidance Counselor, or a Teacher for high school applicants; and the Department Head, Dean of a College, or one of the University Vice Presidents or a College Professor for college-level applicants. There are no sections included in the application that the letter writing officials will need to complete.

Estimate of Burden: Public reporting burden for this collection of information is estimated to average 3 hours per response.

Respondents: High School Students, College Freshman and Sophomore Students, High School Teachers and Guidance Counselors, College Department Head, Dean of a College, University Vice Presidents, or a College Professor.

Estimated Number of Respondents: 2,400 (698 applications).

Estimated Number of Responses per Respondent: 1.

Estimated Total Annual Burden on Respondents: 7,200 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Michael Dukes, USDA/1890 National Scholars Program. All comments received will be available for public inspection during regular business hours at the same address. All responses to this notice will be summarized and included in the request for Office of Management and Budget approval. All comments will become a matter of public record.

Signed on September 13, 2018.
Christian Obineme,
Deputy Director, Office of Partnerships and Public Engagement.

[FR Doc. 2018-21481 Filed 10-2-18; 8:45 am]

BILLING CODE 3412-89-P